DEPARTMENT OF HEALTH AND HUMAN SERVICES

Centers for Disease Control and Prevention

Disease, Disability, and Injury Prevention and Control Special Emphasis Panel (SEP): Cooperative Agreements Program Announcement Number 00075, Association of American Medical Colleges, Program Announcement Number 99122, Association of Schools of Public Health, and Program Announcement Number 97014, Association of Teachers of Preventive Medicine, Research Project Areas—Panel 3

In accordance with section 10(a)(2) of the Federal Advisory Committee Act (Pub. L. 92-463), the Centers for Disease Control and Prevention (CDC) announces the following meeting:

Name: Disease, Disability, and Injury Prevention and Control Special Emphasis Panel (SEP): Cooperative Agreements Program Announcement Number 00075, Association of American Medical Colleges, Program Announcement Number 99122, Association of Schools of Public Health, and Program Announcement Number 97014, Association of Teachers of Preventive Medicine, Research Project Areas—Panel 3.

Times and Dates: 8 a.m.-8:30 a.m., June 10, 2004 (Open). 8:30 a.m.-5 p.m., June 10, 2004 (Closed).

Place: Sheraton Midtown Atlanta Hotel at Colony Square, 188 14th Street at Peachtree, Atlanta, GA 30361, Telephone 404.892.6000.

Status: Portions of the meeting will be closed to the public in accordance with provisions set forth in section 552b(c) (4) and (6), title 5 U.S.C., and the Determination of the Director, Management Analysis and Services Office, CDC, pursuant to Public Law 92-463.

Matters to be Discussed: The meeting will include the review, discussion, and evaluation of applications received in response to Cooperative Agreements Program Announcement Number 00075, Association of American Medical Colleges, Program Announcement Number 99122, Association of Schools of Public Health, and Program Announcement Number 97014, Association of Teachers of Preventive Medicine, Research Project Areas—Panel 3.

Contact Person for More Information: Joan F. Karr, PhD., Scientific Review Administrator, Public Health Practice Program Office, Centers for Disease Control, 4770 Buford Highway, NE., MS-K38, Atlanta, GA 30341, Telephone 770.488.2597.

The Director, Management Analysis and Services Office, has been delegated the authority to sign Federal Register notices pertaining to announcements of meetings and other committee management activities, for both CDC and the Agency for Toxic Substances and Disease Registry.

Dated: May 17, 2004.
Alvin Hall,
Director, Management Analysis and Services Office, Centers for Disease Control and Prevention.

[FR Doc. 04-11531 Filed 5-20-04; 8:45 am]

BILLING CODE 4163-18-P